DEPARTMENT OF JUSTICE

Antitrust Division

Notice Pursuant to the National Cooperative Research and Production Act of 1993—Open Mobile Alliance

Notice is hereby given that, on May 11, 2020, pursuant to Section 6(a) of the National Cooperative Research and Production Act of 1993, 15 U.S.C. 4301 et seq. (“the Act”), Open Mobile Alliance (“OMA”) filed written notifications simultaneously with the Attorney General and the Federal Trade Commission disclosing changes in its membership. The notifications were filed for the purpose of extending the Act's provisions limiting the recovery of antitrust plaintiffs to actual damages under specified circumstances. Specifically, grandcentrix GmbH, Cologne, GERMANY; Institute for Information Industry (III), Taipei City, TAIWAN; Vasala Oyj, Vantaa, FINLAND, have been added as parties to this venture.

Also, Adups Tech. Co., Ltd., Zhangjiang, Shanghai, PEOPLE'S REPUBLIC OF CHINA; Communications Global Certification Inc., Gweishan, Tao-Yuan, TAIWAN; Huawei Technologies Co., Ltd Shenzhen, PEOPLE'S REPUBLIC OF CHINA; Invigo Offshore SAL, Beirut, LEBANON; Nautes Technology Inc, Anyang-si, Gyeonggido, REPUBLIC OF KOREA; Open Source Alliance, Jung-gu, Seoul, REPUBLIC OF KOREA; Orange SA, Bristol, UNITED KINGDOM; Redstone Sunshine (Beijing) Technology Co., Ltd., Haidian District, Beijing, PEOPLE'S REPUBLIC OF CHINA; RETHING IoT Technologies pc, Chalandri, Attiki, GREECE; SigMast Communications, Bedford, NS, CANADA; TeleCommunication Systems, Inc., Annapolis, MN; Works Systems, Inc, San Jose, CA; ZTE Corporation, Shenzhen, PEOPLE'S REPUBLIC OF CHINA, have withdrawn as parties to this venture.

No other changes have been made in either the membership or planned activity of the group research project. Membership in this group research project remains open, and OMA intends to file additional written notifications disclosing all changes in membership.

On March 18, 1998, OMA filed its original notification pursuant to Section 6(a) of the Act. The Department of Justice published a notice in the Federal Register pursuant to Section 6(b) of the Act on December 31, 1998 (63 FR 72333).

The last notification was filed with the Department on April 26, 2019. A notice was published in the Federal Register pursuant to Section 6(b) of the Act on May 10, 2019 (84 FR 20660).

Suzanne Morris,
Chief, Premerger and Division Statistics, Antitrust Division.

[FR Doc. 2020-11364 Filed 5-26-20; 8:45 am]

BILLING CODE 4410-11-P